NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 15, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Application Details

1. Applicant: April Surgent, Port Townsend, WA. Permit Application: 2014-017.

Activity for Which Permit is Requested

ASPA Entry and Take (salvage); The applicant is an artist funded by the National Science Foundation's Antarctic Artist & Writer's program. The applicant is seeking a permit to be able to enter ASPA 149 Cape Shirreff to take photos, video and sketch as artwork itself and to inspire future artwork. If approved, the applicant would be accompanied in by experienced field staff who is familiar with the environmental sensitivities of the Area and would ensure that the applicant acts in accordance with the management plan for the Area.

The applicant also seeks permission to salvage shed bird feathers and broken pieces of eggshell from Adelie, chinstrap and Gentoo penguins and southern fulmar, Wilson's storm petrel, south polar skua, southern black, southern black backed gull, and Antarctic tern. The salvaged feathers and eggshell pieces would be incorporated into pieces of artwork that would be publicly displayed. Feathers and eggshells would be collected in the Cape Shirreff ASPA as well as in the general vicinity of Palmer Station (ASMA 7). All materials collected would be salvaged; the applicant would not interact with live animals or viable eggs to collect the materials.

None of the activities described above would disturb native birds and mammals.

Location

ASPA 149 Cape Shireff and ASMA 7 Southwest Anvers Island (Palmer Station).

Dates

October 23, 2013 to December 23, 2013.

Nadene G. Kennedy,
Polar Coordination Specialist, Division of Polar Programs.

[FR Doc. 2013-22275 Filed 9-12-13; 8:45 am]

BILLING CODE 7555-01-P